DEPARTMENT OF HEALTH AND HUMAN SERVICES

Food and Drug Administration

Notices of Approval of New Animal Drug Applications; Correction

AGENCY: Food and Drug Administration, HHS.

ACTION: Notice; correction.

SUMMARY: The Food and Drug Administration (FDA) is correcting two documents that provided notice of the approval of new animal drug applications (NADAs) and abbreviated new animal drug applications (ANADAs). FDA is correcting the chemical entities listed in the subject lines of both documents that were transposed during document preparation. The address for one of the drug sponsors is also being corrected. These corrections are being made to improve the accuracy of the Federal Register.

FOR FURTHER INFORMATION CONTACT: George K. Haibel, Center for Veterinary Medicine (HFV-6), Food and Drug Administration, 7519 Standish Pl., Rockville, MD 20855, 301-827-4567, e-mail: ghaibel@cvm.fda.gov.

SUPPLEMENTARY INFORMATION: In FR Doc. 03-17262, published on July 9, 2003 (68 FR 40984), the following correction is made:

1. On page 40984, in the first column, in the title, “Clindamycin” is corrected to read “Bacitracin; Lasalocid; Narasin; Roxarsone”.

In FR Doc. 03-17438, published on July 10, 2003 (68 FR 41161), the following corrections are made:

1. On page 41161, in the third column, in the title, “Bacitracin; Lasalocid; Narasin; Roxarsone” is corrected to read “Clindamycin”; and

2. On page 41161, in the third column, in the second paragraph of the SUPPLEMENTARY INFORMATION section, the address for Delmarva Laboratories, Inc., is corrected to read “1500 Huguenot Rd., suite 106, Midlothian, VA 23113”.

Dated: September 15, 2003.
Linda Tollefson,
Deputy Director, Center for Veterinary Medicine.

[FR Doc. 03-24158 Filed 9-22-03; 8:45 am]

BILLING CODE 4160-01-S